SMALL BUSINESS ADMINISTRATION

[License No. 02/72-0627]

Accretive Investors SBIC, L.P.; Notice Seeking Exemption Under Section 312 of the Small Business Investment Act, Conflicts of Interest

Notice is hereby given that Accretive Investors SBIC, L.P., 51 Madison Avenue, 31st Floor, New York, NY, 10010, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Accretive Investors SBIC, L.P. proposes to provide equity financing to Axiant, LLC, 2727 Paces Ferry Road, Atlanta, GA 30339. The financing is contemplated for working capital and debt repurchase.

The financing is brought within the purview of 107.730(a)(1) of the Regulations because Accretive II, LP; Accretive Blocker, LP; Accretive II Coinvestment Partners, LP and Accretive Coinvestment Partners, LLC, all Associates of Accretive Investors SBIC, L.P., in the aggregate own more than ten percent of Axiant, LLC.

Therefore, this transaction is considered a financing of an Associate requiring an exemption. Notice is hereby given that any interested person may submit written comments on the transaction within fifteen days of the date of this publication to the Acting Associate Administrator for Investment, U.S. Small Business Administration, 409 Third Street, SW., Washington, DC 20416.

Dated: February 5, 2009.
Harry Haskins,
Acting Associate Administrator for Investment.

[FR Doc. E9-5738 Filed 3-16-09; 8:45 am]

BILLING CODE 8025-01-P